DEPARTMENT OF HEALTH AND HUMAN SERVICES

Centers for Disease Control and Prevention

[30-Day-19-1202]

Agency Forms Undergoing Paperwork Reduction Act Review

In accordance with the Paperwork Reduction Act of 1995, the Centers for Disease Control and Prevention (CDC) has submitted the information collection request titled Survey of Engineered Nanomaterial Occupational Safety and Health Practices to the Office of Management and Budget (OMB) for review and approval. CDC previously published a “Proposed Data Collection Submitted for Public Comment and Recommendations” notice on April 23, 2019, to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Survey of Engineered Nanomaterial Occupational Safety and Health Practices (OMB Control No. 0920-1202, Exp. 10/31/2019)—Revision—National Institute for Occupational Safety and Health (NIOSH), Centers for Disease Control and Prevention (CDC).

Background and Brief Description

As mandated in the Occupational Safety and Health Act of 1970 (Pub. L. 91-596), the mission of the National Institute for Occupational Safety and Health (NIOSH) is to conduct research and investigations on work-related disease and injury and to disseminate information for preventing identified workplace hazards (Sections 20(a)(1) and (d)). This dual responsibility recognizes the need to translate research into workplace application if it is to impact worker safety and well-being. The goal of this project is to assess the relevance and impact of NIOSH's contribution to guidelines and risk mitigation practices for safe handling of engineered nanomaterials in the workplace. The intended use of this data is to inform NIOSH's research agenda to enhance its relevance and impact on worker safety and health in the context of engineered nanomaterials.

The research under this project will survey companies who manufacture, distribute, fabricate, formulate, use or provide services related to engineered nanomaterials. The analysis will describe the survey sample, response rates, and types of company by industry and size. Further analysis will focus on identifying the types of engineered nanomaterials being used in industry and the types of occupational safety and health practices being implemented. The analysis will be used to develop a final report which evaluates the influence of NIOSH products, services, and outputs on industry occupational safety and health practices.

Under this project, the following activities and data collections will be conducted:

(1) Company Pre-calls. Sampled companies will be contacted to identify the person who will complete the survey and to ascertain whether or not the company handles engineered nanomaterials.

(2) Survey. A web-based questionnaire, with a mail option, will be administered to companies. The purpose of the survey is to learn directly from companies about their use of NIOSH materials and their occupational safety and health practices concerning engineered nanomaterials.

A sample of 600 companies will be compiled from lists of industry associations, research reports, marketing databases, and web-based searches. Of the 600 selected companies we anticipate that 500 will complete the survey. The company pre-call is expected to require five minutes to complete. The survey is expected to require 20 minutes to complete; including the time it may take respondents to look-up and retrieve needed information. The estimated annualized burden hours for the respondents' time to participate in this information collection is 108 hours. There are no costs to the responders other than their time.

Estimated Annualized Burden Hours
Type of respondents | Form name | Number of respondents | Number of responses per respondent | Avg. burden per response (in hrs.)
Receptionist | Pre-call | 300 | 1 | 5/60
Occupational health and safety specialists | Survey | 100 | 1 | 20/60
Industrial Production Managers | Survey | 75 | 1 | 20/60
Natural Sciences Managers | Survey | 75 | 1 | 20/60

Jeffrey M. Zirger,
Lead, Information Collection Review Office, Office of Scientific Integrity, Office of Science, Centers for Disease Control and Prevention.

[FR Doc. 2019-19633 Filed 9-10-19; 8:45 am]

BILLING CODE 4163-18-P